DEPARTMENT OF AGRICULTURE

Food and Nutrition Service

Agency Information Collection Activities: Supplemental Nutrition Assistance Program: Requirement for Interstate Data Matching To Prevent Multiple Issuances

AGENCY: Food and Nutrition Service (FNS), USDA.

ACTION: Notice.

SUMMARY: In accordance with the Paperwork Reduction Act of 1995, this notice invites the general public and other public agencies to comment on this proposed information collection. This information collection request (ICR) is a revision of a currently approved collection associated with the National Accuracy Clearinghouse (NAC).

DATES: Written comments must be received on or before May 4, 2026.

ADDRESSES: Comments may be sent to: Food and Nutrition Service, U.S. Department of Agriculture, Attention SAB Branch Chief, 1320 Braddock Place, 5th Floor, Alexandria, VA 22314. Comments may also be submitted via fax to the attention of SAB Branch Chief at 703-605-4272 or via email to sm.fn.snapsab@usda.gov. Comments will also be accepted through the Federal eRulemaking Portal. Go to http://www.regulations.gov, and follow the online instructions for submitting comments electronically.

All responses to this notice will be summarized and included in the request for Office of Management and Budget (OMB) approval. All comments will be a matter of public record.

FOR FURTHER INFORMATION CONTACT: Requests for additional information or copies of this information collection should be directed to Jennifer Ragan at sm.fn.snapsab@usda.gov.

SUPPLEMENTARY INFORMATION: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: Supplemental Nutrition Assistance Program—Requirement for Interstate Data Matching To Prevent Multiple Issuances.

Form Number: N/A.

OMB Control Number: 0584-0684.

Expiration Date: 05/31/2026.

Type of Request: Revision of a currently approved collection.

Abstract: The Agriculture Improvement Act of 2018 required the Secretary of Agriculture to establish an interstate data system called the NAC to prevent multiple issuances of Supplemental Nutrition Assistance Program (SNAP) benefits to an individual by more than one State agency simultaneously in the same month (also known as interstate duplicate participation). We are using an updated methodology to estimate the burden of this information collection. Since the launch of the NAC, we now have actual data available, allowing more accurate estimates than in the previous information collection.

State Agencies (One-Time Burden)

Under regulations at 7CFR 272.18(b)(1), 53 State agencies must set up a new process to report their caseloads to the NAC (this is a one-time burden). Of the 53 State agencies, 27 are scheduled to complete their estimated burden for this activity under the currently approved burden. The remaining 26 State agencies will respond once each for a total of 26 responses. It will take each State agency 5,760 hours for a total of 149,760 burden hours (26 State agency responses × 5,760 hours = 149,760 total burden hours). The currently approved burden represents 53 respondents at 5,760 hours each for a total of 101,760 burden hours, so this revision represents an increase of 48,000 hours (149,760 revised burden hours−101,760 currently approved burden hours = 48,000 hours). Based on real world State development, we are updating our estimate for the time required to set up a new system from 12 weeks to 36 weeks. Depending on system design, set-up can include arranging an automated daily export of active participants to send to the NAC and updating software that manages workflows for certification, recertification, as well as the addition of new household members to query the NAC before certifying benefits.

Under 7CFR 272.18(c), State agencies must perform queries using the NAC to determine if an individual is currently receiving SNAP benefits in another State. FNS estimates that 200 eligibility workers from each of the 26 State agencies that have yet to implement the NAC will need to receive training on how to properly incorporate the system into existing business processes, for a total of 5,200 workers (200 eligibility workers × 26 State agencies = 5,200 eligibility workers). FNS also estimates it will take each State agency approximately 10 hours to train an eligibility worker for a total of 52,000 burden hours (5,200 eligibility workers × 10 hours = 52,000 burden hours). This includes general training on business practices for the NAC as well as the NAC system, testing and troubleshooting, and authentication for eligibility workers to access the system. The current ICR was approved for 106,000 burden hours, so this revision represents a decrease of 54,000 hours (106,000 currently approved burden hours−52,000 revised burden hours = 54,000 burden hours).

Under 7CFR 272.18(a)(3), 26 State agencies will enter into an initial Computer Matching Agreement (CMA) with FNS to participate in the NAC. Each of the 26 remaining State agencies implementing the NAC will each produce approximately 1 response for a total of 26 responses. FNS estimates it will take 30 hours for each State agency to review, complete any necessary draft changes, and submit a CMA to FNS for a total of 780 burden hours (26 State agencies × 30 burden hours = 780 burden hours). The currently approved ICR accounts for 795 burden hours, so this revision represents a decrease of 15 hours (795 currently approved burden hours−780 revised burden hours = 15 burden hours). CMAs must be renewed annually and reestablished every 18 months, so we have estimated this burden to be an average of 35 hours per response. This activity will also appear in the “Ongoing Burden” section below for all 53 State agencies and on the burden table.

The total estimated burden for one-time activities under this revised ICR is 202,540 hours. The currently approved ICR accounts for 208,555 burden hours, so this revision represents a decrease of 6,015 hours (208,555 currently approved burden hours−202,540 revised burden hours = 6,015 burden hours).

State Agencies (Ongoing Burden)

Per Federal regulations at 7CFR 272.18(b)(2), (3), and (4), 53 State agencies must submit their SNAP caseloads to the NAC once per working day. This ensures that State agencies can query the NAC at any time and check for duplicate participation against the most recent caseloads of other State agencies in real time. There are approximately 261 working days in a year, therefore FNS estimates 261 annual responses per State agency for estimated 13,833 total annual responses (261 responses × 53 State agencies = 13,833 total responses). FNS estimates that it will take one hour for each State agency to upload their caseload to the NAC, for an annual burden of 13,833 hours for State agencies (13,833 responses × 1 hour per response = 13,833 burden hours). There is no change from the currently approved ICR for this activity.

Per Federal regulations at 7CFR 272.18(c)(1) and (2), 53 State agencies will be required to query the NAC at new application, recertification, or adding a new household member. In this revised ICR request, FNS used data from seven States that have fully implemented the NAC and annualized caseload data from the remaining 46 State agencies. With this revision, FNS estimates 1,246,146.97 total responses (queries) per State agency for a total of 66,045,789.54 estimated responses (1,246,146.97 responses × 53 State agencies = 66,045,789.54 responses). FNS estimates that it takes approximately 0.0167 hours (1 minute) for each response (for the State worker to conduct a query), for a revised total annual burden estimate of 1,102,964.69 annual burden hours (66,045,789.41 responses × 0.0167 hours = 1,102,964.69 burden hours). The currently approved ICR used FY 2017 application data and accounts for 300,718.07 burden hours, so this revision represents an increase of 802,246.61 hours (1,102,964.69 revised burden hours−300,718.07 currently approved burden hours = 802,246.61 burden hours). Although this burden estimate has significantly increased, FNS believes this is a more accurate estimate. The currently approved ICR only used new application data, whereas the estimate for this ICR used the average number of times that 53 State agencies may be required to query the NAC annually, which is at new application, recertification of a household, and the addition of a new household member.

Per Federal regulations at 7CFR 272.18(c)(3) and (5), 7CFR 273.12(c)(3), and 7CFR 273.2(f)(2), 53 State agencies are required to verify information following a positive NAC match. Verification of information may include documentation of contact with an applicant or the other State agency to confirm information as needed. The estimates in the currently approved ICR used data from 5 States with matches at initial application. The currently approved ICR estimated 4,612 responses per State agency, for a total number of 244,413 responses (instances where States would need to verify questionable or unclear information following a `valid' match). FNS estimated that each response would take 0.1002 hours (6 minutes), for approximately 24,490.19 annual burden hours (244,413 responses × 0.1002 burden hours = 24,490.19 burden hours). The revised ICR estimate is based on the number of matches found and average monthly caseload from seven States that have fully implemented the NAC and the average active caseload data from the remaining 46 States. FNS estimates this will produce approximately 849.87 responses per State agency for a total annual estimate of 45,043.05 NAC matches that State agencies would be required to act on (53 State agencies × 849.87 responses = 45,043.05 total responses). FNS continues to estimate on average it will take a State agency approximately 0.1002 hours (6 minutes) to take such required action, for a total of 4,513.31 burden hours (45,043.05 responses × 0.1002 hours = 4,513.31 burden hours). The currently approved burden for this activity is 24,490.19 burden hours. This revised estimate reflects a decrease of 19,976.88 hours for the time associated with verification following a NAC match (24,490.19 currently approved burden hours−4,513.31 revised burden hours = 19,976.88 burden hours).

Under Federal regulations at 7CFR 272.18(c)(3), State agencies are required to issue a notice of match results to a household following a positive NAC match at application, recertification, or addition of a new household member. Using similar methodology as that used to calculate the burden for verifying information following a positive NAC match, FNS estimates that issuing a notice of match results will produce approximately 849.87 responses per State agency for a total annual number of 45,043.05 notices of match results (53 State agencies × 849.87 responses = 45,043.05 responses). FNS also estimates it will take each State agency approximately 0.0501 hours (3 minutes per State agency) for a total of 2,256.66 burden hours (45,043.11 responses × 0.0501 hours = 2,256.66 burden hours). The previously approved burden for this activity is 20,526.45 burden hours. This revised estimate reflects a decrease of 18,269.79 hours for the time associated with issuing a notice of match results (20,526.45 currently approved burden hours−2,256.66 revised burden hours = 18,269.79 burden hours).

Federal regulations at 7CFR 272.18(c)(5), 273.12(c)(3)(iv)(A) and 273.13(a)(2), require State agencies to issue a combined notice of match results and adverse action to a household for a positive NAC match found during the certification period for an individual currently participating in SNAP in the State. FNS used a similar methodology to estimate that issuing such a combined notice will produce approximately 849.87 responses per State agency for a total annual number of 45,043.05 combined notices of match results and adverse action (53 State agencies × 849.87 responses = 45,043.05 responses). Each State agency will take approximately 0.0501 hours (3 minutes per State agency) for this activity for a total of 2,256.66 ongoing annual burden hours (45,04311 responses × 0.0501 hours = 2,256.66 burden hours). The currently approved burden for this activity is 20,526.45 burden hours. This revised estimate reflects a decrease of 18,269.79 hours for the time associated with issuing a combined notice of match results and adverse action (20,526.45 currently approved burden hours−2,256.66 revised burden hours = 18,269.79 burden hours).

Per Federal regulations at 272.18(a)(3), 53 State agencies will enter into a CMA with FNS to continue using the NAC. This will produce 1 response per State agency for a total of 53 responses. The CMA reestablishment is effective for an 18-month period, and the CMA renewal is effective for a 12-month period. The reestablishment period is estimated to take 30 hours per 18-month period, whereas the renewal period is estimated to take 15 hours per 12-month period to complete. FNS estimates it will take an average of 35 hours annually for each State agency to review, complete any necessary draft changes, and submit the CMA to FNS for a total of 1,855 ongoing annual burden hours (53 State agencies × 35 burden hours = 1,855 burden hours). This burden activity was not included in the currently approved ICR, so this represents a new burden.

Individuals/Households Burden

Per Federal regulations at 272.18(c)(5) and 273.12(c)(3)(iii), 45,043.05 individuals/households will be required to respond to a notice of match results issued by the State agency following a NAC match found at new application, case recertification, or the addition of a new household member. FNS estimates this will produce approximately 1 response per household for a total of 45,043.05 responses. FNS also estimates it will take each individual/household approximately 0.0835 hours (5 minutes) for a total of 3,761.09 ongoing burden hours (45,043.05 responses × 0.0835 burden hours = 3,761.09 burden hours). The currently approved burden for this activity is 34,210.75 burden hours. This revised estimate reflects a decrease of 30,449.66 hours for the time associated with responding to a notice of match results (34,210.75 currently approved burden hours−3,761.09 revised burden hours = 30,449.66 burden hours).

Under 7CFR 272.18(c)(5) and 273.13(a), 45,043.05 individuals/households will be required to respond to a combined notice of match results and notice of adverse action following a NAC match found during the certification period for an individual currently participating in SNAP in the State. FNS estimates this will produce approximately 1 response per household for a total of 45,043.05 responses. FNS also estimates it will take each individual/household approximately 0.0835 hours (5 minutes) for a total of 3,761.09 burden hours (45,043.05 responses × 0.0835 burden hours = 3,761.09 burden hours). The currently approved burden for this activity is 34,210.75 burden hours. This revised estimate reflects a decrease of 30,449.66 hours for the time associated with responding to a combined notice of match results and notice of adverse action (34,210.75 currently approved burden hours−3,761.09 revised burden hours = 30,449.66 burden hours).

The currently approved ICR includes an individual/household burden activity estimate for “verification of questionable information following positive NAC match at query” using the same FY17 initial application data as that used to calculate the potential number of queries. An estimated 244,413 individuals/households would aid in verification of information following a positive NAC match, producing approximately 1 response per individual/household for an annual total of 244,413 responses. FNS estimates it would take each individual/household 0.0668 hours (4 minutes) for a total of 16,326.79 annual burden hours (244,413 responses × 0.0668 hours = 16,326.79 burden hours). This was based on an assumption that the individual/household would assist in verification during the existing State business processes, such as in the interview, and did not require an entirely new process. FNS believes that this burden activity is duplicative of responding to notices, which is the actual burden activity placed on individuals/households regarding the NAC. Any burdensome `verification of information following a NAC match' on the part of the individual/household is the act of responding to a notice of match results or combined notice of match results and adverse action. Thus, this particular burden activity included in the original ICR has been removed in this revision request. This adjustment reflects a decrease of 16,326.79 burden hours.

Reporting

For One-Time Burden Activities

Affected Public: State Government agencies.

Estimated Number of Respondents: 26.

Estimated Number of Responses per Respondent: 202.

Estimated Total Annual Responses: 5,252.

Estimated Time per Response: 38.5644 hours.

Estimated Total Annual Burden on Respondents: 202,540 hours.

Reporting

For Ongoing Burden Activities

Affected Public: State Government Agencies.

Estimated Number of Respondents: 53.

Estimated Number of Responses per Respondent: 1,248,958.58.

Estimated Total Annual Responses: 66,194,804.70.

Estimated Time per Response: 0.0170 hours.

Estimated Total Annual Burden on Respondents: 1,127,679.31 hours.

Reporting

Affected Public: Individuals/Households.

Estimated Number of Respondents: 45,043.05.

Estimated Number of Responses per Respondent: 2.

Estimated Total Annual Responses: 90,086.11.

Estimated Time per Response: 0.0835 hours.

Estimated Total Annual Burden on Respondents: 7,522.19 hours.

Grand Total Annual Reporting Burden for This ICR

Estimated Number of Respondents: 45,122.05.

Estimated Number of Responses per Respondent: 1,469.1297.

Estimated Total Annual Responses: 66,290,142.8.

Estimated Time per Response: 0.0202 hours.

Estimated Total Annual Burden on Respondents: 1,337,741.5 hours.

Respondent category (affected public) | Type of respondents (optional) | Burden activity | CFR citation | Estimated number of respondents | Responses per respondent (Col. G/E) | Total annual responses (Col. E X F) | Estimated hours per response (Col. J/H) | Estimated total burden hours (Col. G × H)
REPORTING
State Government | State Agency One-Time Burden * | Set-up for system to report caseload to NAC | 272.18(a)(2), 272.18(a)(3) | 26.00 | 1.00 | 26.00 | 5,760.00 | 149,760.00
|  | Training to use NAC System | 272.18(b), 272.18(c) | 26.00 | 200.00 | 5,200.00 | 10.00 | 52,000.00
|  | Computer Matching Agreement (Initial) | 272.18(a)(3) | 26.00 | 1.00 | 26.00 | 30.00 | 780.00
|  | State Government One-Time Subtotal |  | 26.00 | 202.00 | 5,252.00 | 38.5644 | 202,540.00
| State Agency Ongoing Burden | Daily submission of active caseload to NAC | 272.18(b)(2), 272.18(b)(3), 272.18(b)(4) | 53.00 | 261.00 | 13,833.00 | 1.00 | 13,833.00
|  | NAC—Screening Applicants (Queries) | 272.18(c)(1), 272.18(c)(2) | 53.00 | 1,246,146.97 | 66,045,789.54 | 0.0167 | 1,102,964.69
|  | NAC—Verification of information following a positive NAC match | 272.18(c)(3), 273.2(f)(2), 272.18(c)(5), 273.12(c)(3) | 53.00 | 849.87 | 45,043.05 | 0.1002 | 4,513.31
|  | NAC—Notice of Match Results | 272.18(c)(3)(ii), 272.18(c)(3)(iii)(A) | 53.00 | 849.87 | 45,043.05 | 0.0501 | 2,256.66
|  | NAC—Combined Notice of Match Results and Notice of Adverse Action | 272.18(c)(5), 273.12(c)(3)(iv)(A), 273.13(a)(2) | 53.00 | 849.87 | 45,043.05 | 0.0501 | 2,256.66
|  | Computer Matching Agreement (NEW—This burden activity was not included in the original ICR) | 272.18(a)(3) | 53.00 | 1.00 | 53.00 | 35.00 | 1,855.00
|  | State Government Ongoing Subtotal |  | 53.00 | 1,248,958.58 | 66,194,804.70 | 0.0170 | 1,127,679.31
Individuals/Household Ongoing | Respond to Notice of Match Results following positive NAC match | 272.18(c)(5), 273.12(c)(3)(iii) | 45,043.05 | 1.00 | 45,043.05 | 0.0835 | 3,761.09
|  | Respond to Notice of Match Results and Adverse Action following positive NAC match | 272.18(c)(5), 273.13(a) | 45,043.05 | 1.00 | 45,043.05 | 0.0835 | 3,761.09
|  | Verification of questionable information following positive NAC match at query | 272.18(c)(2), 273.2(f)(1)&(2) | 0.00 | 0.00 | 0.00 | 0.0000 | 0.00
|  | Individuals/Household Ongoing Subtotal |  | 45,043.05 | 2.00 | 90,086.11 | 0.0835 | 7,522.19
Ongoing Subtotal | 45,096.05 | 1,469.8602 | 66,284,890.80 | 0.0171 | 1,135,201.50
Grand Total Reporting Burden | 45,122.05 | 1,469.1297 | 66,290,142.80 | 0.0202 | 1,337,741.50
* This one-time burden estimate is for the remaining 26 State agencies that have not yet implemented the NAC.

Patrick A. Penn
Deputy Under Secretary, Food, Nutrition and Consumer Services.

[FR Doc. 2026-04203 Filed 3-2-26; 8:45 am]

BILLING CODE 3410-30-P